DEPARTMENT OF VETERANS AFFAIRS

Funding Availability Under Supportive Services for Veteran Families Program

AGENCY: Department of Veterans Affairs.

ACTION: Notice of funding availability.

SUMMARY: The Department of Veterans Affairs (VA) is announcing the availability of funds for supportive services grants under the SSVF Program. This Notice of Funding Availability (NOFA) contains information concerning the Supportive Services for Veteran Families (SSVF) Program, initial and renewal supportive services grant application processes, and amount of funding available. The Funding Opportunity Number is VA-SSVF-120112. The Catalog of Federal Domestic Assistance Number is 62.033.

Applications for initial and renewal supportive services grants under the SSVF Program must be received by the SSVF Program Office by 4:00 p.m. Eastern Time on February 1, 2013. In the interest of fairness to all competing applicants, this deadline is firm as to date and hour, and VA will treat as ineligible for consideration any application that is received after the deadline. Applicants should take this practice into account and make early submission of their materials to avoid any risk of loss of eligibility brought about by unanticipated delays, computer service outages, or other delivery-related problems.

For a Copy of the Application Package: Copies of the application can be downloaded directly from the SSVF Program Web site at: www.va.gov/homeless/ssvf.asp. Questions should be referred to the SSVF Program Office via phone at (877) 737-0111 (toll-free number) or via email at SSVF@va.gov. For detailed SSVF Program information and requirements, see 38 CFR Part 62.

Submission of Application Package: Two completed, collated, hard copies of the application and two compact discs (CD) containing electronic versions of the entire application are required. Each application copy must (i) be fastened with a binder clip; and (ii) contain tabs listing the major sections of and exhibits to the application. Each CD must be labeled with the applicant's name and must contain an electronic copy of the entire application. A budget template must be attached in Excel format on the CD, but all other application materials may be attached in a PDF or other format. The application copies and CDs must be submitted to the following address: Supportive Services for Veteran Families Program Office, National Center on Homelessness Among Veterans, 4100 Chester Avenue, Suite 201, Philadelphia, PA 19104. Applicants must submit two hard copies and two CDs. Applications may not be sent by facsimile (FAX). Applications must be received in the SSVF Program Office by 4:00 p.m. Eastern Time on the application deadline date. Applications must arrive as a complete package. Materials arriving separately will not be included in the application package for consideration and may result in the application being rejected. To encourage the equitable distribution of supportive services grants across geographic regions, in accordance with 38 CFR 62.23(d)(2), an eligible entity may apply for a total of $2 million per year in funding per grant. See Section II.C. of this NOFA for maximum allowable grant amounts.

Technical Assistance: Information regarding how to obtain technical assistance with the preparation of an initial or renewal supportive services grant application is available on the SSVF Program Web site at: http://www.va.gov/HOMELESS/SSVF.asp.

FOR FURTHER INFORMATION CONTACT: John Kuhn, Supportive Services for Veteran Families Program Office, National Center on Homelessness Among Veterans, 4100 Chester Avenue, Suite 201, Philadelphia, PA 19104; (877) 737-0111 (this is a toll-free number); SSVF@va.gov.

SUPPLEMENTARY INFORMATION:

I. Funding Opportunity Description

A. Purpose: The SSVF Program's purpose is to provide supportive services grants to private non-profit organizations and consumer cooperatives who will coordinate or provide supportive services to very low-income Veteran families who: (i) Are residing in permanent housing, (ii) are homeless and scheduled to become residents of permanent housing within a specified time period, or (iii) after exiting permanent housing within a specified time period, are seeking other housing that is responsive to such very low-income Veteran family's needs and preferences.

B. Definitions: Sections 62.2 and 62.11(a) of title 38, CFR, contain definitions of terms used in the SSVF Program. In addition to the definitions included in those sections, this NOFA introduces two program areas: Emergency Housing Assistance and General Housing Stability Assistance.

Emergency Housing Assistance means the provision of up to 30 days of temporary housing that does not require the participant to sign a lease or occupancy agreement. The cost cannot exceed the reasonable community standard for such housing. Emergency housing is limited to short-term commercial residences (private residences are not eligible for such funding) not already funded to provide on-demand emergency shelter (such as emergency congregate shelters). By authorizing the limited provision of SSVF funded emergency housing, grantees will be able to ensure that participants do not become homeless while they transition to permanent housing or otherwise be put at risk pending placement in permanent housing. Appropriate provision of emergency housing is limited to those cases in which no space is available at a community shelter that would be appropriate for placement of a family unit and where permanent housing has been identified and secured but the participant cannot immediately be placed in that housing. Only families with children under the age of 18 may receive such assistance; individuals are not eligible for SSVF funded emergency housing placement. In the event that longer term transitional housing or emergency housing is needed without such restrictions, VA offers community-based alternatives including, the Grant and Per Diem Program and the Health Care for Homeless Veterans contract residential care program, as well as a variety of VA based residential care programs.

General Housing Stability Assistance means the provision of goods or payment of expenses not included in other sections but which are directly related to supporting a participant's housing stability. This is a new category that may offer a maximum of $1,500 in assistance per participant. Such assistance, when not available through existing mainstream and community resources, may include: (1) Items necessary for a participant's life or safety that are provided to the participant by a grantee on a temporary basis in order to address the participant's emergency situation (limited to $500 per SSVF Program under 38 CFR 62.34); (2) Expenses associated with gaining or keeping employment such as obtaining uniforms, tools, certifications, and licenses; (3) Expenses associated with moving into permanent housing, such as obtaining basic kitchen utensils, bedding, and other supplies; and (4) Expenses necessary for securing appropriate permanent housing such as fees for applications, brokerage fees, or background checks.

C. Approach: Grantees will be expected to leverage supportive services grant funds to enhance the housing stability of very low-income Veteran families who are occupying permanent housing. In doing so, grantees are required to establish relationships with local community resources. The aim of the provision of supportive services is to assist very low-income Veteran families residing in permanent housing to remain stably housed and to rapidly transition to stable housing (i) very low-income Veteran families who are homeless and scheduled to become residents of permanent housing within 90 days, including those leaving VA's Homeless Providers Grant and Per Diem projects and (ii) very low-income Veteran families who have exited permanent housing within the previous 90 days to seek other housing that is responsive to their needs and preferences. Accordingly, VA encourages eligible entities skilled in facilitating housing stability and currently operating rapid re-housing programs (i.e., administering the Department of Housing and Urban Development's (HUD) Homelessness Prevention and Rapid Re-Housing Program, HUD's Emergency Solution Grant (ESG), or other comparable Federal or community resources) to apply for supportive services grants. The SSVF Program is not intended to provide long-term support for participants, nor will it be able to address all of the financial and supportive services needs of participants that affect housing stability. Rather, when participants require long-term support, grantees should focus on connecting such participants to mainstream Federal and community resources (e.g., HUD-VA Supportive Housing (VASH) program, HUD Housing Choice Voucher programs, McKinney-Vento funded supportive housing programs, Temporary Assistance for Needy Families, etc.) that can provide ongoing support as required.

Assistance in obtaining or retaining permanent housing is a fundamental goal of the SSVF program. Grantees are expected to provide case management services in accordance with 38 CFR 62.31. Such case management should include tenant counseling; mediation with landlords; and outreach to landlords.

D. Authority: Funding applied for under this NOFA is authorized by 38 U.S.C. 2044, as recently amended by the Veterans Health Care Facilities Capital Improvement Act of 2011, Public Law 112-37. VA implements the SSVF program by regulation in 38 CFR part 62. Funds made available under this NOFA are subject to the requirements of the aforementioned regulations and other applicable laws and regulations.

E. Requirements for the Use of Supportive Services Grant Funds: The grantee's request for funding must be consistent with the limitations and uses of supportive services grant funds set forth in 38 CFR part 62 and this NOFA. In accordance with the regulations and this NOFA, the following requirements apply to supportive services grants awarded under this NOFA:

(1) Grantees may use a maximum of 10 percent of supportive services grant funds for administrative costs identified in § 62.70.

(2) Grantees must use a minimum of 60 percent of supportive services grant funds to serve very low-income Veteran families who either (i) are homeless and scheduled to become residents of permanent housing within 90 days pending the location or development of housing suitable for permanent housing, as described in § 62.11(a)(2), or (ii) have exited permanent housing within the previous 90 days to seek other housing that is responsive to their needs and preferences, as described in § 62.11(a)(3). (Note: Grantees may request a waiver to decrease this minimum to 40 percent, discussed in section V.B.5.i.)

(3) Grantees may use a maximum of 50 percent of supportive services grant funds to provide the supportive service of temporary financial assistance paid directly to a third party on behalf of a participant for child care, emergency housing assistance, transportation, rental assistance, utility-fee payment assistance, security deposits, utility deposits, moving costs, and general housing stability assistance (which includes emergency supplies) in accordance with §§ 62.33 and 62.34.

F. Guidance for the Use of Supportive Services Grant Funds: It is VA policy to support a “Housing First” model in addressing and ending homelessness. Housing First establishes housing stability as the primary intervention in working with homeless persons. The Housing First approach is based on the concept that a homeless individual or household's first and primary need is to obtain stable housing, and that other issues that may affect the household can and should be addressed once housing is obtained. Housing is not contingent on compliance with services—instead, participants must comply with a standard lease agreement and are provided with the services and supports that are necessary to help them do so successfully.

1. Consistent with the Housing First model supported by VA, grantees are expected to offer the following supportive services: Housing counseling; assisting participants in understanding leases; securing utilities; making moving arrangements; provide representative payee services concerning rent and utilities when needed; and mediation and outreach to property owners related to locating or retaining housing. Grantees may also assist participants by providing rental assistance, security or utility deposits, moving costs or emergency supplies; or using other Federal resources, such as the ESG, or supportive services grant funds subject to the limitations described in this NOFA and 38 CFR 62.34.

2. VA recognizes that extremely low-income Veterans face greater barriers to permanent housing placement. In order to support grantees' efforts to serve this population, VA has proposed new program regulations that will expand temporary financial assistance that may be offered to these participants. Grantees must consider the proposed rule when developing their response to this NOFA.

3. Grantees are encouraged to provide, or assist participants in obtaining, legal services relevant to issues that interfere with the participants' ability to obtain or retain permanent housing. Note: Legal services provided may be protected from release or review by the grantee or VA under attorney-client privilege. Support for legal services can include paying for court filing fees to assist a participant with issues that interfere with the participant's ability to obtain or retain permanent housing or supportive services, including issues that affect the participant's employability and financial security.

4. Notwithstanding any other section in this part, grantees are not authorized to use SSVF funds to pay for the following: (i) Mortgage costs or costs needed by homeowners to assist with any fees, taxes, or other costs of refinancing; (ii) construction or the cost of housing rehabilitation; (iii) credit card bills or other consumer debt; (iv) medical or dental care and medicines; (v) mental health, substance use, or other therapeutic interventions designed to treat Axis I or II diagnostic conditions in the Diagnostic and Statistical Manual of Mental Disorders fourth edition text revision; and (vi) home care and home health aides typically used to provide care in support of daily living activities. This includes care that is focused on treatment for an injury or illness, rehabilitation, or other assistance generally required to assist those with handicaps or other physical limitations; (vii) pet care; (viii) entertainment activities; (ix) direct cash assistance to program participants; or (x) court-ordered judgments or fines.

5. When serving participants who are residing in permanent housing, it is required that the defining question to ask is: “Would this individual or family be homeless but for this assistance?” The grantee must use a VA-approved screening tool with criteria that targets those most at-risk of homelessness. To qualify for SSVF services under Category 1 (homeless prevention), the participants must not have sufficient resources or support networks, e.g., family, friends, faith-based or other social networks, immediately available to prevent them from becoming homeless. To further qualify for services under Category 1, the grantee must document that the participant meets at least one of the following conditions:

(a) Has moved because of economic reasons two or more times during the 60 days immediately preceding the application for homelessness prevention assistance;

(b) Is living in the home of another because of economic hardship;

(c) Has been notified in writing that their right to occupy their current housing or living situation will be terminated within 21 days after the date of application for assistance;

(d) Lives in a hotel or motel and the cost of the hotel or motel stay is not paid by charitable organizations or by Federal, state, or local government programs for low-income individuals;

(e) Is exiting a publicly funded institution, or system of care (such as a health-care facility, a mental health facility, or correctional institution) without a stable housing plan; or

(f) Otherwise, lives in housing that has characteristics associated with instability and an increased risk of homelessness, as identified in the recipient's approved screening tool.

6. Where ESG funds or other funds from community resources are not readily available, grantees may choose to utilize supportive services grants, subject to the limitations described in this NOFA and in 38 CFR 62.33 and 62.34, to provide temporary financial assistance. Such assistance may, subject to the limitations in this NOFA and 38 CFR Part 62, be paid directly to a third party on behalf of a participant for child care, transportation, family emergency housing assistance, rental assistance, utility-fee payment assistance, security or utility deposits, moving costs, and general housing stability assistance as necessary.

II. Award Information

A. Overview: This NOFA announces the availability of funds for supportive services grants under the SSVF Program and pertains to proposals for initial and renewal supportive services grant programs.

B. Funding Priorities: The funding priorities for this NOFA are as follows:

1. Funding Priority 1. Funding Priority 1 is for existing SSVF Program grantees seeking to renew their supportive services grants. To be eligible for renewal of a supportive services grant, the grantee's program concept must be generally consistent with the program concept of the grantee's current grant award. Renewal applications can request a grant amount that is no more than 200 percent of the grantee's current grant award (subject to the allocation limitations described in Section E of this NOFA). Requests for funding increases must be based both on commensurate increases in the number of participants served and expanding access to HUD's Continuums of Care currently not served by an SSVF program. (Note: If an existing grantee would like to substantially modify an existing program, the grantee may submit an initial application and apply under Funding Priority 2. Grantees cannot submit more than one application serving the same geographic area.) An existing grantee applying for funding for a program that is substantially the same as their existing program, may only apply under Funding Priority 1. Approximately $140 million of the up to $300 million available may be awarded depending on funding available under Funding Priority 1. Should not enough applications be funded under Funding Priority 1, funds not expended in this priority will fall to Funding Priority 2.

2. Funding Priority 2. Funding Priority 2 is for eligible entities applying for initial supportive services grants.

C. Allocation of Funds: If funding for Priority 1 projects is exhausted, funding may be awarded depending on availability for initial and renewal supportive services grants, to be funded under this NOFA for a 1- to 3-year period. The following requirements apply to supportive services grants awarded under this NOFA:

(1) Each grant cannot exceed $2 million per year.

(2) The total number of supportive services grants awarded to a grantee cannot exceed five grants nationwide per year.

(3) Applicants should fill out separate applications for each supportive services funding request.

D. Supportive Services Grant Award Period: Most supportive services grants awarded under this NOFA will be for a 1-year period. Selected grants renewed under Funding Priority 1 may be eligible for a 2- or 3-year award (see I.1 and N.6).

III. Eligibility Information

A. Eligible Applicants: In order to be eligible, an applicant must qualify as a private non-profit organization (Section 501 (c) (3) tax exempt status is required) or a consumer cooperative as has the meaning given such term in Section 202 of the Housing Act of 1959 (12 U.S.C. 1701q). In addition, tribally designated housing entities (as defined in Section 4 of the Native American Housing Assistance and Self-Determination Act of 1996 (25 U.S.C. 4104)) are eligible.

B. Cost Sharing or Matching: This section is not applicable to the SSVF program.

IV. Application and Submission Information

A. Address To Request Application Package: Download directly from the SSVF Program Web site at www.va.gov/homeless/ssvf.asp or send a written request for an application to Supportive Services for Veteran Families Program Office, National Center on Homelessness Among Veterans, 4100 Chester Avenue, Suite 201, Philadelphia, PA 19104. Any questions regarding this process should be referred to the SSVF Program Office via phone at (877) 737-0111 (toll-free number) or via email at SSVF@va.gov. For detailed SSVF Program information and requirements, see 38 CFR part 62.

B. Content and Form of Application: Two completed, collated, hard copies of the application and two compact discs (CDs) containing electronic versions of the entire application are required. Each application copy must (i) be fastened with a binder clip; and (ii) contain tabs listing the major sections of and exhibits to the application. Each CD must be labeled with the applicant's name and must contain an electronic copy of the entire application. A budget template must be attached in Excel format on the CD, but all other application materials may be attached in a PDF or other format.

C. Submission Dates and Times: Applications for initial and renewal supportive services grants under the SSVF Program must be received by the SSVF Program Office by 4:00 p.m. Eastern Time on February 1, 2013. Applications must arrive as a complete package. Materials arriving separately will not be included in the application package for consideration and may result in the application being rejected. Additionally, in the interest of fairness to all competing applicants, this deadline is firm as to date and hour, and VA will treat as ineligible for consideration any application that is received after the deadline. Applicants should take this practice into account and make early submission of their materials to avoid any risk of loss of eligibility brought about by unanticipated delays, computer service outages, or other delivery-related problems. It should also be noted that in order to encourage the equitable distribution of supportive services grants across geographic regions, in accordance with 38 CFR 62.23(d)(2), an eligible entity may apply for a total of $2 million per year in funding per grant.

D. Intergovernmental Review: This section is not applicable to the SSVF Program.

E. Funding Restrictions: Approximately $300 million may be awarded depending on funding availability for initial and renewal supportive services grants to be funded under this NOFA for a 1- to 3-year period. The following requirements apply to supportive services grants awarded under this NOFA:

(1) Each grant cannot exceed $2 million per year.

(2) The total number of supportive services grants awarded to a grantee cannot exceed 5 grants nationwide per year.

(3) Applicants should fill out separate applications for each supportive services funding request.

F. Other Submission Requirements:

(1) The funding priorities for this NOFA are as follows:

(a) Funding Priority 1. Funding Priority 1 is for existing SSVF Program grantees seeking to renew their supportive services grants. To be eligible for renewal of a supportive services grant, the grantee's program concept must be generally consistent with the program concept of the grantee's current grant award. Renewal applications can request a grant amount that is no more than 200 percent of the grantee's current grant award (subject to the allocation limitations described in Section E of this NOFA). Requests for funding increases must be based on commensurate increases in the number of participants served. (Note: if an existing grantee would like to substantially modify an existing program, the grantee may submit an initial application and apply under Funding Priority 2. Grantees cannot submit more than one application serving the same geographic area). An existing grantee applying for funding for a program that is substantially the same as their existing program, may only apply under Funding Priority 1. Approximately $140 million may be available under Funding Priority 1 depending on the availability of funds. Should not enough applications be funded under Funding Priority 1, funds not expended in this priority will fall to Funding Priority 2.

(b) Funding Priority 2. Funding Priority 2 is for eligible entities applying for initial supportive services grants.

(2) Additional supportive services grant application requirements are specified in the initial and renewal application packages. Submission of an incorrect or incomplete application package will result in the application being rejected during threshold review. The application packages contain all required forms and certifications. Selections will be made based on criteria described in 38 CFR part 62 and this NOFA. Applicants and grantees will be notified of any additional information needed to confirm or clarify information provided in the application and the deadline by which to submit such information. The application copies and CDs must be submitted to the following address: Supportive Services for Veteran Families Program Office, National Center on Homelessness Among Veterans, 4100 Chester Avenue, Suite 201, Philadelphia, PA 19104. Applicants must submit two hard copies and two CDs. Applications may not be sent by facsimile (FAX).

V. Application Review Information

A. Criteria

1. VA will only score applicants that meet the following threshold requirements:

(a) The application is filed within the time period established in the Notice of Fund Availability, and any additional information or documentation requested by VA under § 62.20(c) is provided within the time frame established by VA;

(b) The application is completed in all parts;

(c) The applicant is an eligible entity;

(d) The activities for which the supportive services grant is requested are eligible for funding under this part;

(e) The applicant's proposed participants are eligible to receive supportive services under this part;

(f) The applicant agrees to comply with the requirements of this part;

(g) The applicant does not have an outstanding obligation to the Federal government that is in arrears and does not have an overdue or unsatisfactory response to an audit; and

(h) The applicant is not in default by failing to meet the requirements for any previous Federal assistance.

2. VA will use the following criteria to score applicants who are applying for a supportive services grant:

(a) VA will award up to 35 points based on the background, qualifications, experience, and past performance, of the applicant, and any subcontractors identified by the applicant in the supportive services grant application.

(b) VA will award up to 25 points based on the applicant's program concept and supportive services plan.

(c) VA will award up to 15 points based on the applicant's quality assurance and evaluation plan.

(d) VA will award up to 15 points based on the applicant's financial capability and plan.

(e) VA will award up to 10 points based on the applicant's area or community linkages and relations.

3. VA will use the following process to select applicants to receive supportive services grants:

(a) VA will score all applicants that meet the threshold requirements set forth in § 62.21 using the scoring criteria set forth in § 62.22.

4. VA will use the following criteria to score grantees applying for renewal of a supportive services grant:

(a) VA will award up to 55 points based on the success of the grantee's program.

(b) VA will award up to 30 points based on the cost-effectiveness of the grantee's program.

(c) VA will award up to 15 points based on the extent to which the grantee's program complies with Supportive Services for Veteran Families Program goals and requirements.

5. VA will use the following process to select grantees applying for renewal of supportive services grants:

(a) So long as the grantee continues to meet the threshold requirements set forth in § 62.21, VA will score the grantee using the scoring criteria set forth in § 62.24. Detailed information regarding application criteria can be found in 38 CFR 62.21-62.25.

B. Review and Selection Process

VA will review all initial and renewal supportive services grant applications in response to this NOFA according to the following steps:

1. Score all applications that meet the threshold requirements described in 38 CFR 62.21.

2. Group applications within the applicable funding priorities set forth in Section II.B. of this NOFA.

3. Rank those applications in Funding Priority 1 (renewal supportive services grants) who score at least 80 cumulative points and receive at least one point under each of the categories identified in § 62.24, paragraphs (a), (b), and (c). The applications will be ranked in order from highest to lowest scores.

4. Rank those applications in Funding Priority 2 (initial supportive services grants) who score at least 70 cumulative points and receive at least one point under each of the categories identified in § 62.22, paragraphs (a), (b), (c), (d), and (e). The applications will be ranked in order from highest to lowest scores.

5. Utilize the ranked scores of applications as the primary basis for selection. However, in accordance with § 62.23(d), VA will utilize the following considerations to select applicants for funding.

i. Preference applications that provide or coordinate the provision of supportive services for very low-income Veteran families transitioning from homelessness to permanent housing. Consistent with this preference, applicants are required to serve no less than 60 percent of their participants and spend no less than 60 percent of all budgeted temporary financial assistance on homeless participants defined in § 62.11(a)(2) and (a)(3). Waivers to this 60 percent requirement may be requested when grantees can demonstrate significant local progress towards eliminating homelessness in the target service area. Waiver requests must include data from authoritative sources such as HUD's Veteran's Supplemental Chapter to the Annual Homeless Assessment Report, annual Point-In-Time Counts and evidence of decreased demand for emergency shelter and transitional housing. Waivers can reduce this 60 percent minimum funding requirement to a 40 percent minimum, with the balance available for participants at imminent risk of homelessness as defined in § 62.11(a)(1).

ii. To the extent practicable, ensure that supportive services grants are equitably distributed across geographic regions, including rural communities and tribal lands.

6. Subject to the considerations noted in paragraph B.5 above, VA will fund the highest-ranked applications for which funding is available, within the highest funding priority group. To the extent funding is available and subject to the considerations noted in paragraph B.5 above, VA will select applications in the next highest funding priority group based on their rank within that group.

VI. Award Administration Information

A. Award Notices

Although subject to change, the SSVF Program Office expects to announce grant recipients by mid-summer 2013. The initial announcement will be made via the SSVF Web site at www.va.gov/homeless/ssvf.asp. Following the initial announcement, the Program Office will email and mail via United Postal Service (UPS), a notification letter to the grant recipients. The notification letter is not an authorization to begin performance, but will provide guidance as to the next steps the recipient must follow. Applicants that are not selected to receive a support services grant will be mailed a declination letter via UPS within 2 weeks of the initial announcement.

B. Administrative and National Policy Requirements

It is VA's policy to support a “Housing First” model in addressing and ending homelessness. Housing First establishes housing stability as the primary intervention in working with homeless persons. The Housing First approach is based on the concept that a homeless individual or household's first and primary need is to obtain stable housing, and that other issues that may affect the household can and should be addressed once housing is obtained. Housing is not contingent on compliance with services—instead, participants must comply with a standard lease agreement and are provided with the services and supports that are necessary to help them do so successfully.

Consistent with the Housing First model supported by VA, grantees are expected to offer the following supportive services: Housing counseling; assisting participants in understanding leases; securing utilities; making moving arrangements; provide representative payee services concerning rent and utilities when needed; and mediation and outreach to property owners related to locating or retaining housing. Grantees may also assist participants by providing rental assistance, security or utility deposits, moving costs or emergency supplies, using other Federal resources, such as the ESG, or supportive services grant funds subject to the limitations described in this NOFA and 38 CFR 62.34.

C. Reporting

VA places great emphasis on the responsibility and accountability of grantees. As described in 38 CFR 62.63 and 62.71, VA has procedures in place to monitor supportive services provided to participants and outcomes associated with the supportive services provided under the SSVF Program. Applicants should be aware of the following:

1. Upon execution of a supportive services grant agreement with VA, grantees will have a VA regional coordinator assigned by the SSVF Program Office who will provide oversight and monitor supportive services provided to participants.

2. Grantees will be required to enter data into a Homeless Management Information System (HMIS) Web-based software application. This data will consist of information on the participants served and types of supportive services provided by grantees. Grantees must treat the data for activities funded by the SSVF Program separate from that of activities funded by other programs. Grantees will be required to work with their HMIS Administrators to export client-level data for activities funded by the SSVF Program to VA on at least a monthly basis.

3. Monitoring will also include the submittal of quarterly and annual financial and performance reports by the grantee. The grantee will be expected to demonstrate adherence to the grantee's proposed program concept, as described in the grantee's application.

4. Grantees will be required to provide each participant with a satisfaction survey which can be submitted by the participant directly to VA, within 45 to 60 days of the participant's entry into the grantee's program and again within 30 days of such participant's pending exit from the grantee's program.

5. Grantees will be assessed based on their ability to meet critical performance measures. In addition to meeting program requirements defined by the regulations and NOFA, grantees will be assessed on their ability to place participants into housing and the housing retention rates of participants served. Higher placement for homeless participants and higher housing retention rates for at-risk participants are expected for very-low income Veterans' families when compared to extremely low-income Veteran families.

6. Organizations receiving awards through Funding Priority 1 and have had ongoing SSVF program operation for at least 1 year (as measured by the start of initial SSVF services until February 1, 2013, may be eligible for 2- or 3-year awards. Grantees meeting outcome goals defined by VA and in substantial compliance with their grant agreements (defined by meeting targets and having no outstanding corrective action plans) are eligible for 2-year renewals. Grantees meeting the requirements for a 2-year renewal and receive 3-year accreditation from the Commission on Accreditation of Rehabilitation Facilities in Employment and Community Services are eligible for a 3-year grant renewal. If awarded a multiple year renewal, grantees may be eligible for funding increases as defined in NOFA's that correspond to years 2 and 3 of their renewal funding.

VII. Agency Contact

FOR FURTHER INFORMATION CONTACT: John Kuhn, Supportive Services for Veteran Families Program Office, National Center on Homelessness Among Veterans, 4100 Chester Avenue, Suite 201, Philadelphia, PA 19104; (877) 737-0111 (this is a toll-free number); SSVF@va.gov.

VIII. Other Information

A. VA's Goals and Objectives for Funds Awarded Under this NOFA: In accordance with 38 CFR 62.22(b)(6), VA will evaluate an applicant's ability to meet VA's goals and objectives for the SSVF Program. VA's goals and objectives include the provision of supportive services designed to enhance the housing stability and independent living skills of very low-income Veteran families occupying permanent housing across geographic regions. For purposes of this NOFA, VA's goals and objectives also include the provision of supportive services designed to rapidly re-house or prevent homelessness among people in the following target populations who also meet all requirements for being part of a very low-income Veteran family occupying permanent housing:

1. Veteran families earning less than 30 percent of area median income as most recently published by HUD for programs under section 8 of the United States Housing Act of 1937 (42 U.S.C. 1437f) (http://www.huduser.org).

2. Veterans with at least one dependent family member.

3. Veterans returning from Operation Enduring Freedom, Operation Iraqi Freedom, or Operation New Dawn.

4. Veteran families located in a community, as defined by HUD's Continuums of Care, not currently served by a SSVF grantee.

5. Veteran families located in a rural area.

6. Veteran families located on Indian Tribal Property.

B. Payments of Supportive Services Grant Funds: Grantees will receive payments electronically through the U.S. Department of Health and Human Services Payment Management System. Grantees will have the ability to request payments as frequently as they choose subject to the following limitations:

1. During the first quarter of the grantee's supportive services grant award period, the grantee's cumulative requests for supportive services grant funds may not exceed 35 percent of the total supportive services grant award without written approval by VA.

2. By the end of the second quarter of the grantee's supportive services grant award period, the grantee's cumulative requests for supportive services grant funds may not exceed 60 percent of the total supportive services grant award without written approval by VA.

3. By the end of the third quarter of the grantee's supportive services grant award period, the grantee's cumulative requests for supportive services grant funds may not exceed 80 percent of the total supportive services grant award without written approval by VA.

4. By the end of the fourth quarter of the grantee's supportive services grant award period, the grantee's cumulative requests for supportive services grant funds may not exceed 100 percent of the total supportive services grant award.

Dated: October 9, 2012.
John R. Gingrich,
Chief of Staff, Department of Veterans Affairs.

[FR Doc. 2012-26376 Filed 10-25-12; 8:45 am]

BILLING CODE 8320-01-P